DEPARTMENT OF TRANSPORTATION

Federal Highway Administration

Safe, Accountable, Flexible, Efficient Transportation Equity Act: A Legacy for Users (SAFETEA-LU); Implementation Guidance

AGENCY: Federal Highway Administration (FHWA), Department of Transportation (DOT).

ACTION: Notice.

SUMMARY: The FHWA, to ensure widespread distribution of implementation guidance on the Safe, Accountable, Flexible, Efficient Transportation Equity Act: A Legacy for Users (SAFETEA-LU) (Pub. L. 109-59, 119 Stat. 1144), is announcing the availability of a Web site that contains SAFETEA-LU implementation guidance issued by the FHWA. The implementation guidance is available at the following URL: http://www.fhwa.dot.gov/safetealu/reference.htm. This Web site will serve as a consolidated location to obtain all SAFETEA-LU implementation guidance issued by the agency.

FOR FURTHER INFORMATION CONTACT: Ms. Carolyn Edwards, Office of Policy and Intergovernmental Affairs, (202) 366-1442, or Mr. Thomas Holian, Office of the Chief Counsel (HCC-10), (202) 366-0761, U.S. Department of Transportation, Federal Highway Administration, 400 Seventh St., SW., Washington, DC 20590. Office hours are from 7:45 a.m. to 4:15 p.m., e.t., Monday through Friday, except Federal holidays.

SUPPLEMENTARY INFORMATION:

Background

On August 10, 2005, the President signed into law the Safe, Accountable, Flexible, Efficient Transportation Equity Act: A Legacy for Users (SAFETEA-LU). Since that time, the FHWA has issued several guidance documents to provide stakeholders with a better idea of how to implement this statute. In an effort to ensure the widest dissemination possible, the FHWA has established a Web site that will serve as the consolidated source of all SAFETEA-LU implementation guidance issued by the FHWA. This Web site can be found at the following URL: http://www.fhwa.dot.gov/safetealu/reference.htm. It is the agency's intent to keep this Web site updated with all SAFETEA-LU implementation guidance as it is issued. The following is a list of some of the guidance documents available on this Web site:

1. Interim Guidance for Implementing Key SAFETEA-LU Provisions on Planning, Environment, and Air Quality for Joint FHWA/FTA Authorities;

2. Interim Guidance for Implementing SAFETEA-LU Provisions on Planning, Environment, and Air Quality for FHWA Authorities;

3. Surface Transportation Program (STP) Section 1113 of SAFETEA-LU—Implementing Guidance;

4. Public Lands Highways Discretionary (PLHD) Program—Implementing Guidance under SAFETEA-LU and Requests for FY 2006 Project Applications;

5. Ferry Boat Discretionary (FBD) Program—Request for FY 2006 Project Applications;

6. Interim Guidance on Use of 23 U.S.C. 139(l) Limitation on Claims Notice;

7. Guidance for Determining De Minimis Impacts to Section 4(f) Resources;

8. Transition and Implementation of SAFETEA-LU Planning Provisions: FHWA/FTA Clarifying Guidance on Implementation of SAFETEA-LU Planning Provisions;

9. Program Guidance: Safe Routes to School;

10. FHWA Guidance—Transportation Enhancements (with SAFETEA-LU updates); and

11. Guidance for Applying the 4(f) Exemption for the Interstate Highway System.

This list is not an exhaustive list of all the guidance currently on the Web site, and the FHWA will continue to issue SAFETEA-LU implementation guidance that will be made available on the Web site announced in this notice.

Conclusion

The FHWA will continue to place SAFETEA-LU implementation guidance documents on this Web site as it becomes available, and interested parties should continue to check this Web site for updates. The FHWA issues SAFETEA-LU implementation guidance to provide relevant information on SAFETEA-LU implementation and intends this guidance to be nonbinding except insofar as it references existing statutory or regulatory requirements. This guidance should not be construed as rules of general applicability and legal effect or notices of proposed rulemaking.

Authority: 23 U.S.C. 315; 49 CFR 1.48.

Issued on: January 27, 2006.
J. Richard Capka,
Acting Federal Highway Administrator.

[FR Doc. E6-1388 Filed 2-1-06; 8:45 am]

BILLING CODE 4910-22-P